DEPARTMENT OF AGRICULTURE

Office of the Secretary

7 CFR Part 2

Revisions of Delegations of Authority

AGENCY: Office of the Secretary, Department of Agriculture.

ACTION: Final rule.

SUMMARY: This document revises the delegations of authority from the Secretary of Agriculture and from the Under Secretary for Rural Development of the Department of Agriculture (USDA) to reflect an internal change in the management of the Alternative Agricultural Research and Commercialization Corporation (AARCC) within USDA.

EFFECTIVE DATE: June 11, 2001.

FOR FURTHER INFORMATION CONTACT: David Suing, (202) 690-1633.

SUPPLEMENTARY INFORMATION: In fiscal year 2000, Congress provided no appropriation for AARCC. The AARCC Board of Directors subsequently resigned. This delegation of authority authorizes the Under Secretary for Rural Development, or the designee of the Under Secretary, to exercise decision-making authority over AARCC, the AARCC investment portfolio, and the AARCC revolving fund.

On March 9, 2000, the Delegations of Authority were revised, and the revision reflected a change in title from the Under Secretary for Rural Economic and Community Development to the Under Secretary for Rural Development. In order to maintain consistency, that title change also is reflected in this rule.

This rule relates to internal agency management. Therefore, pursuant to 5 U.S.C. 553, notice of proposed rulemaking and opportunity for comment are not required. Further, since this rule relates to internal agency management, it is exempt from the provisions of Executive Order Nos. 12866 and 12988. In addition, this action is not a rule as defined by the Regulatory Flexibility Act, 5 U.S.C. 601, et seq., and, thus, is exempt from the provisions of that Act. Accordingly, as authorized by section 808 of the Small Business Regulatory Enforcement Fairness Act of 1996, Pub. L. No. 104-121, this rule may be made effective upon publication in the Federal Register.

List of Subjects in 7 CFR Part 2

Authority delegations (Government agencies).

Accordingly, 7 CFR Part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1), 5 U.S.C. 301; Reorganization Plan No. 2 of 1953, 3 CFR, 1949-1953 Comp., p. 1024.

Subpart C—Delegations of Authority to the Deputy Secretary, the Under Secretaries and Assistant Secretaries

2. In § 2.17, paragraph (a)(21)(xi) is revised to read as follows:

§ 2.17 Under Secretary for Rural Development.

(a) * * *

(21) * * *

(xi) Exercise administrative oversight and final decisionmaking authority over the Alternative Agricultural Research and Commercialization Corporation (AARCC) and the AARCC Revolving Fund, established pursuant to the Alternative Agricultural Research and Commercialization Act of 1990, (7 U.S.C. 5901 et seq.).

* * * * *

3. The heading of Subpart G, is revised to read as follows:

Subpart G—Delegations of Authority by the Under Secretary for Rural Development

4. In § 2.48, add a new paragraph (a)(27) to read as follows:

§ 2.48 Administrator, Rural Business—Cooperative Service.

(a) * * *

(27) Exercise administrative oversight and final decision-making authority over the Alternative Agricultural Research and Commercialization Corporation (AARCC) and the AARCC Revolving Fund, established pursuant to the Alternative Agricultural Research and Commercialization Act of 1990, (7 U.S.C. 5901 et seq.).

* * * * *

Dated: May 25, 2001.
For Subpart C:
Ann M. Veneman,
Secretary.
Dated: May 18, 2001.
For Subpart G:
Dawn Riley,
Acting Deputy Under Secretary for Rural Development.

[FR Doc. 01-14335 Filed 6-8-01; 8:45 am]

BILLING CODE 3410-01-U